NUCLEAR REGULATORY COMMISSION

[NRC-2008-0516]

Notice of Issuance of Regulatory Guide

AGENCY: Nuclear Regulatory Commission.

ACTION: Notice of Issuance and Availability of Regulatory Guide (RG) 3.16, Revision 1.

FOR FURTHER INFORMATION CONTACT: Mark Orr, Regulatory Guide Development Branch, Division of Engineering, Office of Nuclear Regulatory Research, U.S. Nuclear Regulatory Commission, Washington, DC 20555-0001, telephone (301) 251-7495 or e-mail to Mark.Orr@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

RG 3.16, “General Fire Protection Guide for Plutonium Processing and Fuel Fabrication Plants,” was issued with a temporary identification as Draft Regulatory Guide, DG-3035. RG 3.16 provides the reader the type of information the NRC staff will use to evaluate the fire protection program proposed by an applicant as part of an application to construct and operate a plutonium processing and mixed oxide (MOX) fuel fabrication facility.

The NRC considers a MOX fuel fabrication facility to be a plutonium processing and fuel fabrication plant as defined in Title 10, part 70, “Domestic Licensing of Special Nuclear Material,” of the Code of Federal Regulations (10 CFR part 70). Thus, applications for licensing of plutonium processing or fuel fabrication facilities must satisfy the requirements of 10 CFR 70.23, “Requirements for the Approval of Applications;” 10 CFR 70.61, “Performance Requirements;” and 10 CFR 70.64, “Requirements for New Facilities or New Processes at Existing Facilities.”

RG 3.16 endorses the methods and procedures contained in the current revision of NUREG-1718, “Standard Review Plan for the Review of an Application for a Mixed Oxide (MOX) Fuel Fabrication Facility,” Chapter 7, “Fire Protection,” for reviewing the fire protection portion of the licensing application as acceptable for meeting the regulatory requirements as they relate to fire protection and the radiological consequences from fires.

II. Further Information

In September 2008, DG-3035 was published with a public comment period of 60 days from the issuance of the guide. The public comment period closed on November 13, 2008. No comments were received. Electronic copies of RG 3.16, Revision 1 are available through the NRC's public Web site under “Regulatory Guides” at http://www.nrc.gov/reading-rm/doc-collections/.

In addition, regulatory guides are available for inspection at the NRC's Public Document Room (PDR), which is located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resource@nrc.gov.

Regulatory guides are not copyrighted, and NRC approval is not required to reproduce them.

Dated at Rockville, Maryland, this 27th day of January, 2009.
For the Nuclear Regulatory Commission.
Andrea D. Valentin,
Chief, Regulatory Guide Development Branch, Division of Engineering, Office of Nuclear Regulatory Research.

[FR Doc. E9-8828 Filed 4-16-09; 8:45 am]

BILLING CODE 7590-01-P